FEDERAL RESERVE SYSTEM

Formations of, Acquisitions by, and Mergers of Bank Holding Companies; Correction

This notice corrects a notice (FR Doc. E6-11322) published on page 40720 of the issue for Tuesday, July 18, 2006.

Under the Federal Reserve Bank of Chicago heading, the entries for Oakland Financial Services, Inc., Ioakland, Iowa, and Southwest Company, Sidney, Iowa, are revised to read as follows:

A. Federal Reserve Bank of Chicago (Patrick M. Wilder, Assistant Vice President) 230 South LaSalle Street, Chicago, Illinois 60690-1414:

1. Oakland Financial Services, Inc., Oakland, Iowa; to increase its nonvoting equity interest to 50 percent and its total equity to 33.3 percent of Otoe County Bancorporation, Inc., Nebraska City, Nebraska, and thereby indirectly acquire additional voting shares of Otoe County Bank & Trust Company, Nebraska City, Nebraska.

2. Southwest Company, Sidney, Iowa; to increase its nonvoting equity interest to 50 percent and its total equity to 33.3 percent of Otoe County Bancorporation, Inc., Nebraska City, Nebraska, and thereby indirectly acquire additional voting shares of Otoe County Bank & Trust Company, Nebraska City, Nebraska.

Comments on this application must be received by August 14, 2006.

Board of Governors of the Federal Reserve System, July 19, 2006.
Robert deV. Frierson,
Deputy Secretary of the Board.

[FR Doc. E6-11699 Filed 7-21-06; 8:45 am]

BILLING CODE 6210-01-S